COMMODITY FUTURES TRADING COMMISSION

SECURITIES AND EXCHANGE COMMISSION

[Release No. 34-62863; File No. 4-611]

Joint Public Roundtable To Discuss Data for Swaps and Security-Based Swaps, Swap Data Repositories, Security-Based Swap Data Repositories, and Real-Time Public Reporting

AGENCY: Commodity Futures Trading Commission (“CFTC”) and Securities and Exchange Commission (“SEC”) (each, an “Agency,” and collectively, the “Agencies”).

ACTION: Notice of roundtable discussion; request for comment.

SUMMARY: On September 14, 2010, commencing at 8:45 a.m. and ending at 5:30 p.m., staff of the Agencies will hold a public roundtable discussion at which invited participants will discuss data for swaps and security-based swaps, swap data repositories, security-based swap data repositories, and real-time public reporting in the context of certain authority that Sections 727, 728, and 763 of the Dodd-Frank Wall Street Reform and Consumer Protection Act (the “Act”) granted to the Agencies respectively. The discussion will be open to the public with seating on a first-come, first-served basis. Members of the public may also listen by telephone. Call-in participants should be prepared to provide their first name, last name, and affiliation. The information for the conference call is set forth below.

• US/Canada Toll-Free: (866) 312-4390.

• International Toll: (404) 537-3379.

• Conference ID: 98801653.

• A transcript of the public roundtable discussion will be published on the following CFTC pages: Swap Data Repositories Registration Standards and Core Principle Rulemaking, Interpretation & Guidance; Data Recordkeeping & Reporting Requirements; and Real Time Reporting, available at http://www.cftc.gov/LawRegulation/OTCderivatives/otc_rules.html.

The roundtable discussion will take place in Lobby Level Hearing Room (Room 1000) at the CFTC's headquarters at Three Lafayette Centre, 1155 21st Street, NW., Washington, DC 20581.

FOR FURTHER INFORMATION CONTACT: The CFTC's Office of Public Affairs at (202) 418-5080, or the SEC's Office of Public Affairs at (202) 551-4120.

SUPPLEMENTARY INFORMATION: The roundtable discussion will take place on Tuesday, September 14, 2010, commencing at 8:45 a.m. and ending at 5:30 p.m. Commenters are encouraged to submit views on data for swaps and security-based swaps, swap data repositories, security-based swap data repositories, and real-time public reporting that would help inform the discussion at the roundtable. Members of the public who wish to submit their views on these topics may do so via:

• Paper submission to David Stawick, Secretary, Commodity Futures Trading Commission, Three Lafayette Centre, 1155 21st Street, NW., Washington, DC 20581, or Elizabeth M. Murphy, Secretary, Securities and Exchange Commission, 100 F Street, NE., Washington, DC 20549-1090; or

• Electronic submission to the e-mail address provided on the CFTC's Swap Data Repositories Registration Standards and Core Principle Rulemaking, Interpretation & Guidance page, Data Recordkeeping & Reporting Requirements page, and Real Time Reporting page, and/or by e-mail to rule-comments@sec.gov or through the comment form available at http://www.sec.gov/rules/other.shtml. All submissions will be reviewed jointly by the Agencies. All comments must be in English or be accompanied by an English translation. All submissions provided to either Agency in any electronic form or on paper will be published on the Web site of the respective Agency, without review and without removal of personally identifying information. Please submit only information that you wish to make publicly available.

By the Securities and Exchange Commission.
Dated: September 8, 2010.
Elizabeth M. Murphy,
Secretary.
By the Commodity Futures Trading Commission.
Dated: September 8, 2010.
David A. Stawick,
Secretary.

[FR Doc. 2010-22727 Filed 9-10-10; 8:45 am]

BILLING CODE 6351-01-P; 8010-01-P